ENVIRONMENTAL PROTECTION AGENCY

[ER-FRL-6613-1]

Environmental Impact Statements and Regulations; Availability of EPA Comments

Availability of EPA comments prepared November 06, 2000 Through November 10, 2000 pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in Federal Register dated April 14, 2000 (65 FR 20157).

Draft EISs

ERP No. D-BOR-G39033-NM

Rating EC2, Rio Grande and Low Flow Conveyance Channel Modifications Channel System, From Rio Grande Valley between San Acacia Diversion Dam, NM and the Narrows of Elephant Butte Reservoir, NM.

Summary: EPA expressed environmental concerns regarding preferred alternative identification, soils information, ground water depths, and habitat suitability. EPA requested that the final document provide additional information on these issues.

ERP No. DS-BLM-K67011-NV

Rating EC2, Betze-Post Project, Updated Information, Dewatering Operations and a Proposed Pipeline, Elko and Eureka Counties, NV.

Summary: EPA expressed concerns regarding the project's direct and cumulative impacts to biological resources and recommended consideration of an alternative to mitigate impacts to springs and streams. EPA also requested additional information regarding ecological risk, cumulative impacts and mitigation measures.

ERP No. DS-COE-E36074-00

Rating EU3, Yazoo Basin Reformulation Study, Supplement No: 1 To the 1982 Yazoo Area Pump Project, Flood Control, Mississippi River and Tributaries, Yazoo Basin, MS and LA.

Summary: EPA raised significant objections with the recommended pumping plan based on the potential for large-scale adverse impacts to wetlands and non-compliance with Section 404 of the Clean Water Act. EPA also raised objections over the lack of adequate assessment of the scope/significance of environmental impacts, and the flawed procedures/incorrect assumptions used throughout the document.

Final EISs

ERP No. F-AFS-J65302-UT

South Manti Timber Salvage, To address Ecological and Economic Values affected by Spruce Beetle Activity in the South Manti Project, Manti-La National Forest, Ferron-Price and Sanpete Ranger Districts, Sanpete and Sevier Counties, UT.

Summary: No formal comment letter was sent to the preparing agency.

ERP No. F-AFS-L65300-ID

Goose Creek Watershed Project, Harvesting Timber and Improve Watershed, Payette National Forest, New Meadows Ranger District, Adams County, ID.

Summary: EPA continues to have concerns about potential impacts from road activities and harvesting to 303(d) listed Brundage Reservoir and Little Salmon River. EPA recommend that the Forest Service complete analyses prescribed in the May 1999 “Forest Service and Bureau of Land Management Protocol for Addressing 303(d) “Listed Waters” for the two impaired waters and make this information available to the decisionmaker.

ERP No. F-COE-K36051-AZ

Rio de Flag Flood Control Study, Improvement Flood Protection, City of Flagstaff, Coconino County, AZ.

Summary: Nor formal comment letter was sent to the preparing agency.

ERP No. F-COE-K36131-CA

Lower Mission Creek Flood Control Project, Proposed Plan for Flood Control, City of Santa Barbara, Santa Barbara County, CA.

Summary: No formal comment letter was sent to the preparing agency.

ERP No. F-COE-L39056-WA

Programmatic EIS—Green/Duwamish River Basin Restoration Program, Capitol Improvement Type Program and Ecological Health, King County, WA.

Summary: No formal comment letter was sent to the preparing agency.

Dated: November 21, 2000.
Joseph C. Montgomery,
Director, NEPA Compliance Division, Office of Federal Activities.

[FR Doc. 00-30042 Filed 11-22-00; 8:45 am]

BILLING CODE 6560-50-U